DEPARTMENT OF TRANSPORTATION

Federal Aviation Administration

Public Notice for Waiver of Aeronautical Land-Use Assurance

AGENCY: Federal Aviation Administration (FAA), DOT.

ACTION: Request for public comments; Notice of intent of waiver with respect to land.

SUMMARY: The FAA is considering a proposal that a portion of airport property (approximately .55 acres) associated with the Manchester Airport, Manchester, New Hampshire is no longer needed for aeronautical use, as shown on the Airport Layout Plan. There appear to be no impacts to the airport by allowing the disposal of the property. The land was conveyed to the City of Manchester, New Hampshire by the United States of America by deed dated June 4, 1975, recorded in Book 2243, Page 378, as described on page 12 of the deed as Tract 13 of Parcel 4 and known as 1001 Harvey Road, Manchester, New Hampshire.

In accordance with Section 47107(h) of title 49, United States Code, this notice is required to be published in the Federal Register thirty (30) days before modifying the land-use assurance which requires that the property be used for an aeronautical purpose. The purpose of the release of land will allow the City to utilize proceeds for capital development at the Airport.

DATES: Comments must be received on or before April 11, 2001.

FOR FURTHER INFORMATION CONTACT: Donna R. Witte, Airports Division, 12 New England Executive Park, Burlington, Massachusetts 01803. Telephone No. 781-238-7624/Fax 781-238-7608. Documents reflecting the proposed FAA action may be reviewed in person at 16 New England Executive Park, Burlington, Massachusetts or the office of the Assistant Director of Aviation, Engineering and Planning at Manchester Airport, Manchester, New Hampshire.

SUPPLEMENTARY INFORMATION: This notice announces that the FAA is considering the release of the subject airport property at Manchester Airport, Manchester, New Hampshire in accordance with Federal Aviation Regulation Part 155. The disposition of proceeds from the disposal of airport property will be in accordance with FAA's Policy and Procedures Concerning the Use of Airport Revenue, published in the Federal Register on February 16, 1999.

Issued in Burlington, Massachusetts on February 23, 2001.
Vincent A. Scarano,
Manager, Airports Division, New England Region.

[FR Doc. 01-6094 Filed 3-9-01; 8:45 am]

BILLING CODE 4910-13-M